DEPARTMENT OF ENERGY

Federal Energy Regulatory Commission

Combined Notice of Filings #1

Take notice that the Commission received the following electric corporate filings:

Docket Numbers: EC20-11-000.

Applicants: Xcel Energy Inc., Jeffers Wind 20, LLC, Community Wind North, LLC, North Community Turbines LLC, North Wind Turbines LLC, Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC.

Description: Joint Application for Authorization Under Section 203 of the Federal Power Act, et al. of Xcel Energy Inc., et al.

Filed Date: 10/18/19.

Accession Number: 20191018-5234.

Comments Due: 5 p.m. ET 11/8/19.

Take notice that the Commission received the following electric rate filings:

Docket Numbers: ER19-1901-001.

Applicants: Southwest Power Pool, Inc.

Description: Compliance filing: Notice of Effective Date in ER19-1901—Minimum Daily Contingency Reserve to be effective N/A.

Filed Date: 10/21/19.

Accession Number: 20191021-5110.

Comments Due: 5 p.m. ET 11/12/19.

Docket Numbers: ER19-2716-000.

Applicants: Madison BTM, LLC.

Description: Supplement to August 30, 2019 Madison BTM, LLC tariff filing.

Filed Date: 10/21/19.

Accession Number: 20191021-5040.

Comments Due: 5 p.m. ET 11/12/19.

Docket Numbers: ER19-2717-000.

Applicants: Madison ESS, LLC.

Description: Supplement to August 30, 2019 Madison ESS, LLC tariff filing.

Filed Date: 10/21/19.

Accession Number: 20191021-5038.

Comments Due: 5 p.m. ET 11/12/19.

Docket Numbers: ER20-144-000.

Applicants: Northern States Power Company, a Minnesota corporation, Jeffers Wind 20, LLC, Community Wind North, LLC, North Community Turbines LLC, North Wind Turbines LLC.

Description: Request for Authorization of Affiliate Transactions of Northern States Power Company, a Minnesota corporation, et al.

Filed Date: 10/18/19.

Accession Number: 20191018-5236.

Comments Due: 5 p.m. ET 11/8/19.

Docket Numbers: ER20-145-000.

Applicants: Oak Creek Wind Power, LLC.

Description: Tariff Cancellation: Notice of Cancellation to be effective 10/22/2019.

Filed Date: 10/21/19.

Accession Number: 20191021-5076.

Comments Due: 5 p.m. ET 11/12/19.

Docket Numbers: ER20-146-000.

Applicants: ON Wind Energy LLC.

Description: Tariff Cancellation: Notice of Cancellation to be effective 10/22/2019.

Filed Date: 10/21/19.

Accession Number: 20191021-5078.

Comments Due: 5 p.m. ET 11/12/19.

Docket Numbers: ER20-147-000.

Applicants: PJM Interconnection, L.L.C.

Description: Tariff Cancellation: Notice of Cancellation of WMPA SA No. 5090; Queue No. AC1-209 to be effective 12/2/2019.

Filed Date: 10/21/19.

Accession Number: 20191021-5092.

Comments Due: 5 p.m. ET 11/12/19.

Docket Numbers: ER20-148-000.

Applicants: PJM Interconnection, L.L.C.

Description: § 205(d) Rate Filing: Original ISA SA No. 5493; Queue No. AC1-107 to be effective 9/20/2019.

Filed Date: 10/21/19.

Accession Number: 20191021-5106.

Comments Due: 5 p.m. ET 11/12/19.

Docket Numbers: ER20-149-000.

Applicants: New York Independent System Operator, Inc.

Description: § 205(d) Rate Filing: 205: EPC Agreement no. 2476 among NYISO, Alcoa, HQUS for Cedar Rapids to be effective 10/4/2019.

Filed Date: 10/21/19.

Accession Number: 20191021-5124.

Comments Due: 5 p.m. ET 11/12/19.

Docket Numbers: ER20-150-000.

Applicants: EverPower Commercial Services LLC.

Description: Tariff Cancellation: Cancellation complete tariff to be effective 10/22/2019.

Filed Date: 10/21/19.

Accession Number: 20191021-5128.

Comments Due: 5 p.m. ET 11/12/19.

Docket Numbers: ER20-151-000.

Applicants: Midcontinent Independent System Operator, Inc.

Description: § 205(d) Rate Filing: 2019-10-21_SA 3364 NIPSCO-Indiana Crossroads Wind Farm GIA (J837 J838) to be effective 10/7/2019.

Filed Date: 10/21/19.

Accession Number: 20191021-5134.

Comments Due: 5 p.m. ET 11/12/19.

Docket Numbers: ER20-152-000.

Applicants: Alabama Power Company.

Description: § 205(d) Rate Filing: Americus Solar (Americus Solar II) LGIA Filing to be effective 10/7/2019.

Filed Date: 10/21/19.

Accession Number: 20191021-5136.

Comments Due: 5 p.m. ET 11/12/19.

Docket Numbers: ER20-153-000.

Applicants: Exelon Corporation.

Description: Petition for Limited Waiver, et al. of Exelon Corporation.

Filed Date: 10/21/19.

Accession Number: 20191021-5137.

Comments Due: 5 p.m. ET 11/12/19.

Docket Numbers: ER20-155-000.

Applicants: Alabama Power Company.

Description: § 205(d) Rate Filing: Boggy Branch Solar LGIA Filing to be effective 10/10/2019.

Filed Date: 10/21/19.

Accession Number: 20191021-5144.

Comments Due: 5 p.m. ET 11/12/19.

Docket Numbers: ER20-156-000.

Applicants: Alabama Power Company.

Description: § 205(d) Rate Filing: Indian Springs Solar LGIA Filing to be effective 10/7/2019.

Filed Date: 10/21/19.

Accession Number: 20191021-5151.

Comments Due: 5 p.m. ET 11/12/19.

Docket Numbers: ER20-157-000.

Applicants: PJM Interconnection, L.L.C.

Description: Tariff Cancellation: Notice of Cancellation of WMPA, SA No. 4391; Queue No. AB1-020 to be effective 11/12/2019.

Filed Date: 10/21/19.

Accession Number: 20191021-5177.

Comments Due: 5 p.m. ET 11/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2019.
Nathaniel J. Davis, Sr.,
Deputy Secretary.

[FR Doc. 2019-23423 Filed 10-25-19; 8:45 am]

BILLING CODE 6717-01-P